DEPARTMENT OF ENERGY

Federal Energy Regulatory Commission

[Project No. 5069-011]

Cascade Clean Energy, Inc.; Kingdom Energy Products; Notice of Transfer of Exemption

1. By letter filed August 19, 2015, Neva Van Hook, d/b/a Kingdom Energy Products (KEP) informed the Commission that the exemption from licensing for the Sygitowicz Creek Power Project, FERC No. 5069, originally issued July 14, 1982,¹ has been transferred to Kingdom Energy Products. The project is located on the Sygitowicz Creek, Whatcom County, Washington. The transfer of an exemption does not require Commission approval.

¹ 20 FERC ¶ 62,051, Order Granting Exemption From Licensing of a Small Hydroelectric Project of 5 Megawatts or Less (1982).

2. Kingdom Energy Products is now the exemptee of the Sygitowicz Creek Power Project, FERC No. 5069. All correspondence should be forwarded to: Mr. Alan Van Hook, Kingdom Energy Products, Box 557, Klawock, AK 99925.

Dated: September 3, 2015.
Nathaniel J. Davis, Sr.,
Deputy Secretary.

[FR Doc. 2015-24383 Filed 9-24-15; 8:45 am]

BILLING CODE 6717-01-P